DEPARTMENT OF TRANSPORTATION

Federal Aviation Administration

14 CFR Part 39

[Docket No. FAA-2010-0683; Directorate Identifier 2010-NE-25-AD; Amendment 39-18065; AD 2015-02-01]

RIN 2120-AA64

Airworthiness Directives; Technify Motors GmbH (Type Certificate Previously Held by Thielert Aircraft Engines GmbH) Reciprocating Engines

AGENCY: Federal Aviation Administration (FAA), DOT.

ACTION: Final rule; request for comments.

SUMMARY: We are superseding airworthiness directive (AD) 2011-23-01 for all Technify Motors GmbH (TMG) models TAE 125-01 and TAE 125-02-99 reciprocating engines with certain part number (P/N) and serial number (S/N) clutch assemblies installed. AD 2011-23-01 required replacement of certain P/N and S/N clutch assemblies. This AD requires the same actions but expands the population of affected P/N and S/N clutch assemblies. This AD was prompted by an additional report of a clutch assembly that malfunctioned due to disk springs that received a nonconforming heat treatment process. We are issuing this AD to prevent failure of the clutch assembly, which could lead to failure of the engine, in-flight shutdown, and loss of control of the airplane.

DATES: This AD is effective February 13, 2015.

The Director of the Federal Register approved the incorporation by reference of a certain publication listed in this AD as of February 13, 2015.

The Director of the Federal Register approved the incorporation by reference of a certain other publication listed in this AD as of November 22, 2011 (76 FR 68636, November 7, 2011).

We must receive any comments on this AD by March 16, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Technify Motors GmbH, Platanenstrasse 14, D-09356 Sankt Egidien, Germany; phone: +49-37204-696-0; fax: +49-37204-696-55; email: info@centurion-engines.com. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2010-0683; or in person at the Docket Management Facility between 9 a.m. and 5 p.m., Monday through Friday, except Federal holidays. The AD docket contains this AD, the mandatory continuing airworthiness information, regulatory evaluation, any comments received, and other information. The address for the Docket Office (phone: 800-647-5527) is in the ADDRESSES section. Comments will be available in the AD docket shortly after receipt.

FOR FURTHER INFORMATION CONTACT: Christopher McGuire, Aerospace Engineer, Engine Certification Office, FAA, Engine & Propeller Directorate, 12 New England Executive Park, Burlington, MA 01803; phone: 781-238-7120; fax: (781) 238-7199; email: Chris.McGuire@faa.gov.

SUPPLEMENTARY INFORMATION:

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0683; Directorate Identifier 2010-NE-25-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Discussion

On August 16, 2010, we issued AD 2010-18-02, Amendment 39-16415 (75 FR 52240, August 25, 2010), (“AD 2010-18-02”), for certain Thielert Aircraft Engines GmbH (TAE) (previous certificate holder) models TAE 125-01 and TAE 125-02-99 reciprocating engines. AD 2010-18-02 resulted from reports of engine in-flight shutdowns. Preliminary investigation showed that nonconforming disc springs used in a certain production batch of the clutch caused the shutdowns. AD 2010-18-02 required replacement of certain clutch assemblies.

On October 19, 2011, we superseded AD 2010-18-02, issuing AD 2011-23-01, Amendment 39-16852 (76 FR 68636, November 7, 2011), for certain TAE models TAE 125-01 and TAE 125-02-99 reciprocating engines. AD 2011-23-01 required replacement of certain P/N and S/N clutch assemblies due to clutch failure. AD 2011-23-01 resulted from TAE identifying additional clutch assemblies with nonconforming disc springs.

Actions Since AD 2011-23-01 Was Issued

Since we issued AD 2011-23-01, Amendment 39-16852 (76 FR 68636, November 7, 2011), we received an additional report of a malfunctioning clutch assembly. Investigation found that the same unsafe condition exists on approximately 40 additional S/N clutch assemblies that have nonconforming disk springs. Those additional nonconforming disc springs are identified in TMG Service Bulletin No. TM TAE 125-0021, Revision 2, dated October 13, 2014.

FAA's Determination

We are issuing this AD because we evaluated all the relevant information and determined the unsafe condition described previously is likely to exist or develop in other products of these same type designs.

AD Requirements

This AD requires, for engines with affected clutch assemblies with more than 100 hours time since new (TSN), replacement of affected clutch assemblies before further flight. This AD also requires, for those engines with affected clutch assemblies that have accumulated less than 100 hours TSN, replacement of affected clutch assemblies before accumulating 100 hours TSN.

FAA's Justification and Determination of the Effective Date

An unsafe condition exists that requires the immediate adoption of this AD. The FAA has found that the risk to the flying public justifies waiving notice and comment prior to adoption of this rule because TMG identified additional clutch assemblies with nonconforming disc springs and the need for operators to comply with some of the AD actions before further flight. Therefore, we find that notice and opportunity for prior public comment are impracticable and that good cause exists for making this amendment effective in less than 30 days.

Costs of Compliance

We estimate that this AD will affect about 111 engines installed on airplanes of U.S. registry. We also estimate that it will take about 16 hours per engine to perform the clutch assembly replacement. The average labor rate is $85 per hour. Required parts will cost about $1,796. Based on these figures, we estimate the cost of the AD on U.S. operators to be $350,316.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-23-01, Amendment 39-16852 (76 FR 68636, November 7, 2011), and adding the following new AD:

2015-02-01 Technify Motors GmbH (Type Certificate previously held by Thielert Aircraft Engines GmbH): Amendment 39-18065; Docket No. FAA-2010-0683; Directorate Identifier 2010-NE-25-AD.

(a) Effective Date

This AD is effective February 13, 2015.

(b) Affected ADs

This AD supersedes AD 2011-23-01, Amendment 39-16852 (76 FR 68636, November 7, 2011).

(c) Applicability

This AD applies to Technify Motors GmbH (TMG) models TAE 125-01 and TAE 125-02-99 reciprocating engines, with a clutch assembly part number (P/N) listed in paragraphs (c)(i) through (c)(v) of this AD, and with a serial number (S/N) listed in either TMG Service Bulletin (SB) No. TM TAE 125-0021, Revision 2, dated October 13, 2014, or Thielert Aircraft Engines GmbH (TAE) SB No. TM TAE 125-1011 P1, Revision 2, dated August 31, 2011, installed.

(i) P/N 02-7210-11001R11

(ii) P/N 02-7210-11001R11-AT

(iii) P/N 02-7210-11001R13

(iv) P/N 05-7211-K006001

(v) P/N 05-7211-K006002

(d) Unsafe Condition

This AD was prompted by TMG identifying 40 additional S/N clutch assemblies with nonconforming disk springs for TMG TAE 125-01 reciprocating engines. We are issuing this AD to prevent failure of the clutch assembly, which could lead to failure of the engine, in-flight shutdown, and loss of control of the airplane.

(e) Compliance

Comply with this AD within the compliance times specified, unless already done.

After the effective date of this AD:

(1) For engines with affected clutch assemblies that have accumulated 100 hours time since new (TSN) or more, replace the clutch assembly before further flight.

(2) For engines with affected clutch assemblies that have accumulated less than 100 hours TSN, replace the clutch assembly before accumulating 100 hours TSN.

(f) Installation Prohibition

After the effective date of this AD, do not install onto any airplane any engine having a clutch assembly, P/N 02-7210-11001R11, P/N 02-7210-11001R11-AT, P/N 02-7210-11001R13, P/N 05-7211-K006001, or P/N 05-7211-K006002, installed, that has an S/N listed in TMG SB No. TM TAE 125-0021, Revision 2, dated October 13, 2014, or in TAE SB No. TM TAE 125-1011 P1, Revision 2, dated August 31, 2011.

(g) Credit for Previous Actions

If before the effective date of this AD you replaced an affected clutch assembly with a clutch assembly not listed in this AD, or with one not listed in either TMG SB No. TM TAE 125-0021, Revision 2, dated October 13, 2014, or TAE SB No. TM TAE 125-1011 P1, Revision 2, dated August 31, 2011, then you met the requirements of paragraph (e) of this AD and no further action is required to comply with this AD.

(h) Alternative Methods of Compliance (AMOCs)

The Manager, Engine Certification Office, may approve AMOCs for this AD. Use the procedures found in 14 CFR 39.19 to make your request. You may email your request to: ANE-AD-AMOC@faa.gov.

(i) Related Information

(1) For more information about this AD, contact Christopher McGuire, Aerospace Engineer, Engine Certification Office, FAA, Engine & Propeller Directorate, 12 New England Executive Park, Burlington, MA 01803; phone: 781-238-7120; fax: (781) 238-7199; email: Chris.McGuire@faa.gov.

(2) Refer to MCAI European Aviation Safety Agency AD 2014-0232, dated October 22, 2014 and corrected on November 4, 2014, for more information. You may examine the MCAI in the AD docket on the Internet at http://www.regulations.gov by searching for and locating it in Docket No. FAA-2010-0683.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on February 13, 2015.

(i) Technify Motors GmbH (TMG) Service Bulletin (SB) No. TM TAE 125-0021, Revision 2, dated October 13, 2014.

(ii) Reserved.

(4) The following service information was approved for IBR on November 22, 2011.

(i) Thielert Aircraft Engines GmbH (TAE) SB No. TM TAE 125-1011 P1, Revision 2, dated August 31, 2011.

(ii) Reserved.

(5) For TMG and TAE service information identified in this AD, contact Technify Motors GmbH, Platanenstrasse 14, D-09356 Sankt Egidien, Germany; phone: +49-37204-696-0; fax: +49-37204-696-55; email: info@centurion-engines.com.

(6) You may view this service information at FAA, Engine & Propeller Directorate, 12 New England Executive Park, Burlington, MA. For information on the availability of this material at the FAA, call 781-238-7125.

(7) You may view this service information at the National Archives and Records Administration (NARA). For information on the availability of this material at NARA, call 202-741-6030, or go to: http://www.archives.gov/federal-register/cfr/ibr-locations.html.

Issued in Burlington, Massachusetts, on January 8, 2015.
Colleen M. D'Alessandro,
Assistant Directorate Manager, Engine & Propeller Directorate, Aircraft Certification Service.

[FR Doc. 2015-00991 Filed 1-28-15; 8:45 am]

BILLING CODE 4910-13-P